DEPARTMENT OF TRANSPORTATION

Federal Highway Administration

[Docket No. FHWA-2017-0019]

Agency Information Collection Activities: Emergency Approval Request for a New Information Collection.

AGENCY: Federal Highway Administration (FHWA), DOT.

ACTION: Notice of Emergency Approval Request.

SUMMARY: The FHWA invites public comments about our intention to request the Office of Management and Budget's (OMB) approval for a new information collection, which is summarized below under SUPPLEMENTARY INFORMATION. We are required to publish this notice in the Federal Register by the Paperwork Reduction Act of 1995.

FOR FURTHER INFORMATION CONTACT: Jimmy Chu, 202-366-3379 or Robert Rupert, 202-366-2194, Office of Operations, Federal Highway Administration, Department of Transportation, 1200 New Jersey Avenue SE., Washington, DC 20590. Office hours are from 7 a.m. to 4 p.m., Monday through Friday, except Federal holidays.

SUPPLEMENTARY INFORMATION: Title: Dynamic Highway Messages Signs

Background: Senate Report 114-243 (accompanying the FY 2017 Department of Transportation Appropriations Act) dated May 5, 2017, contained requirements for a new FHWA Report to Congress about Dynamic Highway Message Signs. This report is to include the number of motorists exposed to dynamic highway message signs on a daily basis, the extent to which States use such signs to support safety activities, possible impediment to using such signs for traffic safety, and plans for broader deployment of such signs. In order to ensure that all requirements are met, the Federal Highway Administration (FHWA) has developed a set of surveys that will be distributed to the 51 State Departments of Transportation. This survey will be necessary to complete the Senate's request for a Dynamic Highway Message Signs Report within 120 days.

Respondents: 51 State Department of Transportation.

Frequency: One time.

Estimated Average Burden per Response: Approximately 14 hours per participant.

Estimated Total Annual Burden Hours: Approximately 714 hours.

Authority: The Paperwork Reduction Act of 1995; 44 U.S.C. Chapter 35, as amended; and 49 CFR 1.48.

Issued On: May 24, 2017.
Michael Howell,
FHWA Information Collections Coordinator.

[FR Doc. 2017-11066 Filed 5-26-17; 8:45 am]

BILLING CODE 4910-22-P